DEPARTMENT OF AGRICULTURE

Forest Service

National Urban and Community Forestry Advisory Council

AGENCY: Forest Service, USDA.

ACTION: Announcement for the 2009 U.S. Forest Service Urban and Community Forestry Challenge Cost Share Grant Program.

SUMMARY: The National Urban and Community Foresty Advisory Council, (NUCFAC), is charged, by law, to provide recommendations to the Secretary of Agriculture on urban forestry related issues and opportunities. Part of the Council's role is to recommend the criteria for the U.S. Forest Service's Urban and Community Forestry, (U&CF) Challenge Cost Share Grant Program.

NUCFAC has revised their criteria for the U.S. Forest Service's U&CF Challenge Cost Share Grant Program for 2009. The new U&CF Challenge Cost Share Grant Program will be solicited in two categories: Innovation grants and Best Practices grants. At total anticipated amount of one million dollars will be divided in half between the two categories.

Innovation Grants

Innovation grants, are to focus on one of the Council's identified priority issues confronting the UC&F community: Energy Conservation, Climate Change and Public Health.

NUCFAC will seek proposals from organizations and partnerships that demonstrate the reach, resources and expertise needed to deliver meaningful, replicable results. As much as $500,000 would be available in 2009 for one or more Innovation Grants.

2009 Best Practices Grants

• Smaller grants will be funded up to $50,000 per application for organizations that can implement, demonstrate, and disseminate replicable approaches to: Make best practices/latest science in urban forestry accessible to practitioners;

• Nurture networks of urban forestry practitioners within existing conservation, organizations, professional societies, social networks, and Internet communities; and

• Address other challenges to the U&CF community.

DATES: Applications are available electronically at the following Web site, http://www.grants.gov, due by 11:59 p.m., February 17, 2009.

Those that do not have access to a computer may request a hardcopy of the application and instructions by contacting Nancy Stremple at the address below.

ADDRESSES: Written comments concerning this announcement should be addressed to Nancy Stremple, Executive Staff to National Urban and Community Forestry Advisory Council, 201 14th St., SW., Yates Building (1 Central) MS-1151, Washington, DC 20250-1151. Comments may also be sent via e-mail to nstremple@fs.fed.us, or via facsimile to 202-690-5792.

All comments, including names and addresses when provided, are placed in the record and are available for public inspection and copying. The public may inspect comments received at 201 14th St., SW., Yates Building (1 Central) MS-1151, Washington, DC 20250-1151. Visitors are encouraged to call ahead to 202-205-1054 to facilitate entry into the building.

FOR FURTHER INFORMATION CONTACT: Nancy Stremple, Executive Staff or Robert Prather, Staff Assistant to National Urban and Community Forestry Advisory Council, 201 14th St., SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: The 2009 U.S. Forest Service Urban and Community Forestry Challenge Cost Share Grant instructions and application are posted on http://www.grants.gov. The instructions only will be posted on the NUCFAC and U.S. Forest Service Web sites at: http://www.treelink.org/nucfac and http://www.fs.fed.us/ucf/nucfac.

If interested applicants are not already registered in grants.gov, they are encouraged to register now. The process may take up to two weeks to collect the required information.

Dated: December 18, 2008.
Robin L. Thompson,
Associate Deputy Chief, State and Private Forestry.

[FR Doc. E8-30657 Filed 12-23-08; 8:45 am]

BILLING CODE 3410-11-P